DEPARTMENT OF ENERGY

Southwestern Power Administration

Integrated System Rate Schedules

AGENCY: Southwestern Power Administration, DOE.

ACTION: Notice of rate order.

SUMMARY: Pursuant to Delegation Order Nos. 00-037.00, effective December 6, 2001, and 00-001.00C, effective January 31, 2007, the Deputy Secretary has approved and placed into effect on an interim basis Rate Order No. SWPA-61, which provides the following Integrated System Rate Schedules:

Rate Schedule P-06A, Wholesale Rates for Hydro Peaking Power.

Rate Schedule NFTS-06A, Wholesale Rates for Non-Federal Transmission Service.

FOR FURTHER INFORMATION CONTACT: Mr. James K. McDonald, Assistant Administrator, Office of Corporate Operations, Southwestern Power Administration, Department of Energy, One West Third Street, Tulsa, Oklahoma 74103, (918) 595-6690, jim.mcdonald@swpa.gov.

SUPPLEMENTARY INFORMATION: The 2008 Power Repayment Studies indicated that rates prescribed by Rate Schedules P-06, Wholesale Rates for Hydro Peaking Power, and NFTS-06, Wholesale Rates for Non-Federal Transmission Service, as approved in Docket No. EF07-4011-000, for the period October 1, 2006, through September 30, 2010, are sufficient to meet repayment criteria and do not require any adjustment. However, it is necessary to make technical, non-revenue impacting changes to the terms and conditions of both rates. The Real Power Losses provisions in rate schedules P-06 and NFTS-06 were revised to specify that all real power losses associated with deliveries of non-Federal energy transmitted by Southwestern on behalf of transmission customers must be scheduled and delivered (self-supplied) to Southwestern by such customers during the second month after such real power losses were incurred by Southwestern. Prior to these new provisions, transmission customers were provided the option to either purchase losses from Southwestern or elect, on an annual basis, to self-provide their respective loss energy subject to certain conditions. These new provisions incorporate comments received by Southwestern during customer meetings held throughout 2008. As a result of these informal meetings, it was determined that the revised rate schedule provisions can provide cost-savings to Southwestern's transmission customers, operational benefits to Southwestern, and are consistent with Federal Energy Regulatory Commission (FERC) Order No. 888.

Rate Schedule P-06A applies to wholesale customers purchasing hydro peaking power and peaking energy from the Integrated System. This rate schedule is designed for the sale of Federal power and energy. Rate Schedule NFTS-06A applies to wholesale customers purchasing Non-Federal Point-to-Point and Network Transmission Service. In developing the revised real power losses rate schedules provisions, the title of the P-06 and NFTS-06 rate schedules were changed to P-06A and NFTS-06A respectively, to reflect the fact that revisions have been made. In addition to replacing the section entitled “Rates for Real Power Losses” within the rate schedules, minor corrections and modifications were incorporated to clarify and update any sections of the rate schedules containing references to real power losses. These changes will have no impact on the amortization or status of repayment forecasted in the power repayment studies and will not require rate changes. Revenues based on current rates remain sufficient to meet repayment criteria.

The Administrator, Southwestern Power Administration (Southwestern) has followed Title 10, Part 903, Subpart A of the Code of Federal Regulations, “Procedures for Public Participation in Power and Transmission Rate Adjustments and Extensions,” in connection with the rate schedule revisions being proposed. The public was advised by notice published in the Federal Register (73 FR 63969), October 28, 2008, of proposed rate schedule changes and of the opportunity to provide written comments for a period of 30 days ending November 28, 2008. Accordingly, several informal meetings were held with customers and interested parties to discuss the proposed changes. No comments were received during the period of public participation related to the proposed rate schedule changes.

Following review of Southwestern's proposal within the Department of Energy, I approved Rate Order No. SWPA-61 on an interim basis for the period January 1, 2009, through September 30, 2010, or until confirmed and approved on a final basis by the Federal Energy Regulatory Commission.

Dated: January 8, 2009.
Jeffrey F. Kupfer,
Deputy Secretary.

United States of America, Department of Energy, Deputy Secretary.

In the Matter of: Southwestern Power Administration Integrated System Rate Schedules; Order Confirming, Approving and Placing Revised Power Rate Schedules in Effect On an Interim Basis

Rate Order No. SWPA-61

Pursuant to Sections 302(a) and 301(b) of the Department of Energy Organization Act, Public Law 95-91, the functions of the Secretary of the Interior and the Federal Power Commission under Section 5 of the Flood Control Act of 1944, 16 U.S.C. 825s, relating to the Southwestern Power Administration (Southwestern) were transferred to and vested in the Secretary of Energy. By Delegation Order No. 0204-108, effective December 14, 1983, the Secretary of Energy delegated to the Administrator of Southwestern the authority to develop power and transmission rates, delegated to the Deputy Secretary of the Department of Energy the authority to confirm, approve, and place in effect such rates on an interim basis and delegated to the Federal Energy Regulatory Commission the authority to confirm and approve on a final basis or to disapprove rates developed by the Administrator under the delegation. Delegation Order No. 0204-108, as amended, was rescinded and subsequently replaced by Delegation Orders 00-037.00 (December 6, 2001) and 00-001-00C (January 31, 2007). The Deputy Secretary issued this rate order pursuant to said delegations.

Background

In May 2008, Southwestern Power Administration (Southwestern) completed its review of the adequacy of the current rate schedules for the Integrated System and finalized its 2008 Power Repayment Studies (PRSs). The studies indicated that the proposed rates as shown in Rate Schedules P-06 and NFTS-06 would meet cost recovery criteria for the Integrated System projects. The Federal Energy Regulatory Commission (FERC) confirmation and approval of the following Integrated System (System) rate schedules was provided in FERC Docket No. EF07-4011-000 (118 FERC ¶ 62, 162) issued February 27, 2007, for the period October 1, 2006, through September 30, 2010:

Rate Schedule P-06, Wholesale Rates for Hydro Peaking Power.

Rate Schedule NFTS-06, Wholesale Rates for Point-to-Point and Network Transmission Service.

Rate Schedule EE-06, Wholesale Rate for Excess Energy.

Based on operations under the approved Rate Schedules, the Administrator, Southwestern, has determined that a revision to the Real Power Losses provision within existing rate schedules P-06 and NFTS-06 is required. Since the proposed changes to the rate schedules are associated with Real Power Losses, the net results of the 2008 Integrated System Power Repayment Studies, which was the basis for the existing rate schedules, will not be altered. The designations of the aforementioned rate schedules have been revised from P-06 and NFTS-06 to P-06A and NFTS-06A to reflect the fact that revisions have been made.

Titles 10, Part 903 Subpart A, of the Code of Federal Regulations, “Procedures for Public Participation in Power and Transmission Rate Adjustments and Extensions” (Part 903) have been followed in connection with the proposed Rate Schedules P-06A and NFTS-06A. An opportunity for customers and other interested members of the public to review and comment on the proposed rate schedules was announced by notice published in the Federal Register October 28, 2008 (73 FR 63969), with written comments due by November 28, 2008. In addition, Southwestern held informal meetings with customers to discuss proposed changes and to provide opportunity for input in the development of these changes. No comments were received during the period of public participation related to the proposed rate schedule changes.

Discussion

Rate Schedule P-06A applies to wholesale customers purchasing hydro peaking power and peaking energy from the Integrated System. This rate schedule is designed for the sale of Federal power and energy. Rate Schedule NFTS-06A applies to wholesale customers purchasing Non-Federal Point-to-Point and Network Transmission Service. In addition to replacing the section entitled “Rates for Real Power Losses” within the rate schedules, minor corrections and modifications were incorporated to clarify and update any sections of the rate schedules containing references to real power losses. These changes will have no impact on the amortization or status of repayment forecasted in the power repayment studies and will not require rate changes. Revenues based on current rates remain sufficient to meet repayment criteria.

For the period January 1, 2009, through September 30, 2010, Southwestern's P-06A and NFTS-06A rate schedules will require that all real power losses associated with deliveries of non-Federal energy transmitted by Southwestern must be scheduled and delivered (self-supplied) to Southwestern by customers during the second month after such real power losses were incurred by Southwestern. Southwestern will determine the amount of real power losses associated with non-Federal energy transmitted on behalf of each customer in the manner specified in the rate schedules and provide a written schedule setting forth the delivery rate and total quantity of real power loss energy to be delivered back to Southwestern. Should a customer fail to return the total quantity of real power loss energy to Southwestern, according to the schedule provided during the month in which such loss energy is due, the customer will be invoiced and obligated to purchase, at the rate stipulated in the P-06A and NFTS-06A rate schedules, the quantity of loss energy the customer failed to return to Southwestern.

Availability of Information

Information regarding these rate schedules changes is available for public review and comment in the offices of Southwestern Power Administration, One West Third Street, Tulsa, Oklahoma 74103.

Comments and Responses

Southwestern received no comments during the period of public participation related to the proposed rate schedule changes.

Other Issues

There were no other issues raised during the informal meetings or during the formal public participation period.

Administrator's Certification

The revised rate schedules will repay all costs of the Integrated System including amortization of the power investment consistent with the provisions of Department of Energy Order No. RA 6120.2. In accordance with Delegation Order Nos. 00-037.00, effective December 6, 2001, and 00-001.00C, effective January 31, 2007, and Section 5 of the Flood Control Act of 1944, the Administrator has determined that the proposed Integrated System rate schedules are consistent with applicable law and the lowest possible rates consistent with sound business principles.

Environment

No additional evaluation of the environmental impact of the proposed rate schedule changes was conducted since no change has been made to the currently-approved System rates which were determined to fall within the class of actions that are categorically excluded from the requirements of preparing either an Environmental Impact Statement or an Environmental Assessment.

Order

In view of the foregoing and pursuant to the authority delegated to me by the Secretary of Energy, I hereby confirm, approve and place in effect on an interim basis, effective January 1, 2009, the Southwestern Integrated System Rate Schedules P-06A and NFTS-06A which shall remain in effect on an interim basis through September 30, 2010, or until the FERC confirms and approves the rates on a final basis.

Dated: January 8, 2009.
Jeffrey F. Kupfer,
Deputy Secretary.

[FR Doc. E9-895 Filed 1-15-09; 8:45 am]

BILLING CODE 6450-01-P